DEPARTMENT OF COMMERCE

National Oceanic and Atmospheric Administration

RIN 0648-XD608

Endangered Species; File No. 19255

AGENCY: National Marine Fisheries Service (NMFS), National Oceanic and Atmospheric Administration (NOAA), Commerce.

ACTION: Notice; receipt of application.

SUMMARY: Notice is hereby given that the Delaware Department of Natural Resources and Environmental Control (DENREC) [Michael Stangl, Responsible Party], 3002 Bayside Dr., Dover, Delaware 19977, has applied in due form for a permit to take shortnose sturgeon (Acipenser brevirostrum) in the Delaware River for purposes of scientific research.

DATES: Written, telefaxed, or email comments must be received on or before December 17, 2014.

ADDRESSES: The application and related documents are available for review by selecting “Records Open for Public Comment” from the Features box on the Applications and Permits for Protected Species (APPS) home page, https://apps.nmfs.noaa.gov, and then selecting File No. 19255 from the list of available applications.

Documents are also available upon written request or by appointment in the Permits and Conservation Division, Office of Protected Resources, NMFS, 1315 East-West Highway, Room 13705, Silver Spring, MD 20910; phone (301) 427-8401; fax (301) 713-0376.

Written comments on either application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application(s) would be appropriate.

FOR FURTHER INFORMATION CONTACT: Malcolm Mohead or Rosa L. González, (301) 427-8401.

SUPPLEMENTARY INFORMATION: The subject permits are requested under the authority of the Endangered Species Act of 1973, as amended (ESA; 16 U.S.C. 1531 et seq.) and the regulations governing the taking, importing, and exporting of endangered and threatened species (50 CFR parts 222-226).

The applicant is requesting authorization for a scientific research permit for takes of shortnose sturgeon in the Delaware River. The research objectives would be to document nursery areas, individual movement patterns, seasonal movements, home ranges, and habitats of juvenile shortnose sturgeon through the use of telemetry. Annually, up to 50 adult to juvenile shortnose sturgeon would be captured, weighed, measured, examined for tags, marked with Passive Integrated Transponder (PIT) tags and Floy tags, and released. Up to 15 juvenile shortnose sturgeon would also be anesthetized and implanted with acoustic transmitters and tracked. One unintentional mortality of a shortnose sturgeon is requested annually during the five year permit.

Dated: November 10, 2014.
Perry Gayaldo,
Deputy Director, Office of Protected Resources, National Marine Fisheries Service.

[FR Doc. 2014-27180 Filed 11-14-14; 8:45 am]

BILLING CODE 3510-22-P